DEPARTMENT OF AGRICULTURE

Forest Service

Land Between The Lakes Advisory Board

AGENCY: Forest Service, USDA.

ACTION: Notice of Intent to Re-establish the Charter of the Land Between The Lakes Advisory Board.

SUMMARY: The Department of Agriculture intends to re-establish the charter of the Land Between The Lakes Advisory Board (Board), pursuant to Section 460, of the Land Between The Lakes Protection Act of 1998 (Act) and operates in compliance with the Federal Advisory Committee Act (FACA). The purpose of the Board is to advise the Secretary of Agriculture (Secretary) on means of promoting public participation for the land and resource management plan for the recreation area and environmental education.

FOR FURTHER INFORMATION CONTACT: Tina Tilley, Area Supervisor, Land Between The Lakes, 100 Van Morgan Drive, Golden Pond, Kentucky 42211. Comments may also be sent via email to ttilley@fs.fed.us or via facsimile to 270-924-2150. Individuals who use telecommunication devices for the deaf (TDD) may call the Federal Information Relay Service (FIRS) at 1-800-877-8339 between 8:00 a.m. and 8:00 p.m., Eastern Standard Time, Monday through Friday.

SUPPLEMENTARY INFORMATION:

Background

The Board was established pursuant to the Act and in accordance with the provisions of FACA; the Secretary intends to renew the charter for the Board. The Secretary has determined the work of the Board is in the public interest and relevant to the duties of the Department of Agriculture. The Board provides advice to the Secretary on: (1) Means of promoting public participation for the land and resource management plan for the recreation area; and (2) environmental education.

Board Membership

The Act outlines the specific Federal, State, and local agencies that will be represented on the Board, which includes 17 appointees. The interests listed in the Act are as follows:

(1) Four persons appointed by the Secretary, including:

a. Two residents of the State of Kentucky and

b. Two residents of the State of Tennessee;

(2) Two persons appointed by the Governor of Kentucky;

(3) Two persons appointed by the Governor of Tennessee;

(4) Two persons appointed by the Commissioner of Kentucky, Department of Fish and Wildlife Resources or designee;

(5) One person appointed by the Commission of Tennessee Wildlife Resources or designee;

(6) Two persons appointed by the Judge Executive of Lyon County, Kentucky;

(7) Two persons appointed by the Judge Executive of Trigg County, Kentucky; and

(8) Two persons appointed by the County Executive of Stewart County, Tennessee.

No individual who is currently registered as a Federal lobbyist is eligible to serve as a member of the Board. Members of the Board serve without compensation, but may be reimbursed for travel expenses while performing duties on behalf of the Board, subject to approval by the Designated Federal Official (DFO). The Board members serve 5-year terms. In the event a vacancy arises, nominees will be sought through an open and public process and submitted to the Secretary for vetting, approval, and appointment.

Equal opportunity practices in accordance with U.S. Department of Agriculture

(USDA) policies shall be followed in all appointments to the Board. To ensure that the recommendations of the Board have been taken into account, the needs of the diverse groups served by the Department's membership should include, to the extent practicable, individuals with demonstrated ability to represent all racial and ethnic groups, women and men, and persons with disabilities.

Dated: April 23, 2015.
Gregory L. Parham,
Assistant Secretary for Administration.

[FR Doc. 2015-10307 Filed 5-1-15; 8:45 am]

BILLING CODE 3411-15-P